DEPARTMENT OF LABOR

Employment and Training Administration

[TA-W-75,181]

Sony Music Holdings, Inc., D/B/A Sony DADC Americas a Subsidiary of Sony Corporation of America Including On-Site Leased Workers From Employment Plus, Aerotek, and Robert Half Pitman, NJ; Notice of Revised Determination on Reconsideration

On June 28, 2011, the Department of Labor (Department) issued a Notice of Affirmative Determination Regarding Application for Reconsideration for the workers and former workers of Sony Music Holdings, Inc. (“SMHI”), d/b/a Sony DADC Americas, a subsidiary of Sony Corporation of America, including on-site leased workers from Employment Plus, Aerotek, and Robert Half, Pitman, New Jersey (subject firm) to apply for Trade Adjustment Assistance. The Department's Notice was published in the Federal Register on July 8, 2011 (76 FR 40400). Workers at the subject firm were engaged in activities related to the production of optical discs containing content.

During the reconsideration investigation, the Department received new information that revealed that the subject firm shifted to a foreign country a portion of the production of articles like or directly competitive with the articles produced by the subject firm workers.

Criterion I has been met because a significant number or proportion of workers at the subject firm have become totally or partially separated or are threatened with such separation.

Criterion II has been met because the subject firm shifted to a foreign country a portion of the production of articles like or directly competitive with the articles produced by the subject firm workers.

Criterion III has been met because the shift in production contributed importantly to the workers' separation or threat of separation at the subject firm.

Conclusion

After careful review of the additional facts obtained on reconsideration, I determine that workers and former workers of the subject firm, who are engaged in employment related to the production of optical discs containing content, meet the worker group certification criteria under Section 222(a) of the Act, 19 U.S.C. 2272(a). In accordance with Section 223 of the Act, 19 U.S.C. 2273, I make the following certification:

All workers of Sony Music Holdings, Inc. (“SMHI”), d/b/a Sony DADC Americas, a subsidiary of Sony Corporation of America, including on-site leased workers from Employment Plus, Aerotek, and Robert Half, Pitman, New Jersey, who became totally or partially separated from employment on or after February 7, 2010, through two years from the date of this revised certification, and all workers in the group threatened with total or partial separation from employment on date of certification through two years from the date of certification, are eligible to apply for adjustment assistance under Chapter 2 of Title II of the Trade Act of 1974, as amended.

Signed in Washington, DC, this 18th day of August, 2011.
Del Min Amy Chen,
Certifying Officer, Office of Trade Adjustment Assistance.

[FR Doc. 2011-22557 Filed 9-1-11; 8:45 am]

BILLING CODE 4510-FN-P